DEPARTMENT OF ENERGY

Federal Energy Regulatory Commission

Combined Notice of Filings

Take notice that the Commission has received the following Natural Gas Pipeline Rate and Refund Report filings:

Filings Instituting Proceedings

Docket Numbers: RP14-1132-000.

Applicants: Alliance Pipeline L.P.

Description: August 1-31, 2014. Auction to be effective 8/1/2014.

Filed Date: 7/29/14.

Accession Number: 20140729-5001.

Comments Due: 5 p.m. ET 8/11/14.

Docket Numbers: RP14-1133-000.

Applicants: Total Peaking Services, L. L. C.

Description: Total Peaking Services Compliance Filing to be effective 9/1/2014.

Filed Date: 7/29/14.

Accession Number: 20140729-5040.

Comments Due: 5 p.m. ET 8/11/14.

Docket Numbers: RP14-1134-000.

Applicants: Questar Pipeline Company.

Description: Negotiated Rate Version 8.0.0, Cross Timbers Energy, LLC to be effective 8/1/2014.

Filed Date: 7/29/14.

Accession Number: 20140729-5046.

Comments Due: 5 p.m. ET 8/11/14.

Docket Numbers: RP14-1135-000.

Applicants: LA Storage, LLC.

Description: LA Storage, LLC proposed revisions to Section 5.3.1 to be effective 8/31/2014.

Filed Date: 7/29/14.

Accession Number: 20140729-5047.

Comments Due: 5 p.m. ET 8/11/14.

Docket Numbers: RP14-1136-000.

Applicants: Natural Gas Pipeline Company of America.

Description: Tenaska LPS-RO-8/1/2014 to be effective 8/1/2014.

Filed Date: 7/29/14.

Accession Number: 20140729-5058.

Comments Due: 5 p.m. ET 8/11/14.

Docket Numbers: RP14-1137-000.

Applicants: Iroquois Gas Transmission System, L.P.

Description: 07/29/14 Negotiated Rates—Trafigura AG (RTS) 7443-03 to be effective 8/1/2014.

Filed Date: 7/29/14.

Accession Number: 20140729-5092.

Comments Due: 5 p.m. ET 8/11/14.

Docket Numbers: RP14-1138-000.

Applicants: Transcontinental Gas Pipe Line Company.

Description: Negotiated Rates—Cherokee AGL—Replacement Shippers—Aug 2014 to be effective 8/1/2014.

Filed Date: 7/29/14.

Accession Number: 20140729-5107.

Comments Due: 5 p.m. ET 8/11/14.

Docket Numbers: RP14-1139-000.

Applicants: Transcontinental Gas Pipe Line Company.

Description: Remove X-269 References to be effective 8/1/2014.

Filed Date: 7/29/14.

Accession Number: 20140729-5108.

Comments Due: 5 p.m. ET 8/11/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2014.
Nathaniel J. Davis, Sr.,
Deputy Secretary.

[FR Doc. 2014-18586 Filed 8-6-14; 8:45 am]

BILLING CODE 6717-01-P